NATIONAL AERONAUTICS AND SPACE ADMINISTRATION

[Notice: (22-022)]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Thursday, May 5, 2022, 2:30 p.m.-6:00 p.m.; and Friday, May 6, 2022, 11:00 a.m.-5:00 p.m., Eastern Time.

FOR FURTHER INFORMATION CONTACT: Mrs. KarShelia Kinard, Science Mission Directorate, NASA Headquarters, Washington, DC 20546, (202) 358-2355, or karshelia.kinard@nasa.gov.

Dr. Janet Kozyra, Designated Federal Officer, Science Mission Directorate, NASA Headquarters, Washington, DC 20546, at janet.kozyra@nasa.gov, 202-875-3278.

SUPPLEMENTARY INFORMATION: This meeting will be virtual and will take place telephonically and via WebEx. Any interested person must use a touch-tone phone to participate in this meeting. Any interested person may call the USA toll free number 1-877-939-1570, or toll number 1-210-234-0110, passcode 9775739, followed by the # sign to participate in this meeting by telephone on both days. The WebEx link is https://nasaenterprise.webex.com/nasaenterprise/j.php?MTID=md29775a628286c1b87f1c28cc34d3b87; the meeting number is 2763 347 9700 and the password is HPACMay2022! (case sensitive) on both days.

The agenda for the meeting includes the following topic:

• Heliophysics Division Update

• Diversity, Equity, Inclusion and Accessibility Efforts

• Research and Analysis Program Trends

It is imperative that the meeting be held on these dates to accommodate the scheduling priorities of the key participants.

Patricia Rausch,
Advisory Committee Management Officer, National Aeronautics and Space Administration.

[FR Doc. 2022-06126 Filed 3-23-22; 8:45 am]

BILLING CODE 7510-13-P